DEPARTMENT OF LABOR

Office of the Secretary

Submission for OMB Review; Comment Request

December 8, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or E-Mail: mills.ira@dol.gov.

Comments should be sent to Office of Information and Regulatory Affairs, Attn: OMB Desk Officer for DOL, Office of Management and Budget, Room 10235, Washington, DC 20503 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Revision of a currently approved collection.

Title: Re-employment Services Plan Narrative and Progress Report.

OMB Number: 1205-0424.

Frequency: Annually; and quarterly.

Affected Public: State, Local, or Tribal Government; Federal Government.

Number of Respondents: 54.

Number of Annual Responses: 378.

Form | Number of respondents | Responses per year | Total responses | Hours per response | Total burden hours
Annual Plan | 54 | 1 | 54 | 40 | 2,160
Progress Report | 54 | 1 | 54 | 16 | 864
SF 424 | 54 | 1 | 54 | .75 | 40
SF 269 | 54 | 4 | 216 | .30 | 108
Totals | 54 | 7 | 378 | 57 | 3,172

Total Burden Hours: 3,172.

Total annualized capital/startup costs: $0.

Total annual costs (operating/maintaining systems or purchasing services): $0.

Description: The information collected by the annual plan narrative and progress report will be used by DOL to determine if federal funds were productive, met the objectives for providing funds and customer needs. In addition, the narrative and reports will also be used to monitor and report to Congress about the proper and effective utilization of the authorized funds.

Ira L. Mills,
Departmental Clearance Officer.

[FR Doc. 04-27290 Filed 12-13-04; 8:45 am]

BILLING CODE 4510-30-U